DEPARTMENT OF COMMERCE

Foreign-Trade Zones Board

[B-64-2017]

Foreign-Trade Zone (FTZ) 153—San Diego, California; Authorization of Production Activity; Plantronics, Inc. (Electronics/Telecommunications); San Diego, California

On October 13, 2017, Plantronics, Inc., submitted a notification of proposed production activity to the FTZ Board for its facility within FTZ 153—Site 8, in San Diego, California.

The notification was processed in accordance with the regulations of the FTZ Board (15 CFR part 400), including notice in the Federal Register inviting public comment (82 FR 49178, October 24, 2017). On February 12, 2018, the applicant was notified of the FTZ Board's decision that no further review of the activity is warranted at this time. The production activity described in the notification was authorized, subject to the FTZ Act and the FTZ Board's regulations, including Section 400.14.

Dated: March 8, 2018.
Andrew McGilvray,
Executive Secretary.

[FR Doc. 2018-05147 Filed 3-13-18; 8:45 am]

BILLING CODE 3510-DS-P